DEPARTMENT OF TRANSPORTATION

Pipeline and Hazardous Materials Safety Administration

Notice of Application for Special Permits

AGENCY: Office of Hazardous Materials Safety, Pipeline and Hazardous Materials Safety Administration (PHMSA), DOT.

ACTION: List of applications for special permits

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 15, 2011.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on November 3, 2011.
Donald Burger,
Chief, General Approvals and Permits.

New Special Permits
Application No. | Docket No. | Applicant | Regulation(s) affected | Nature of special permit thereof
15476-N |  | Swanson Group Aviation, LLC Grants Pass, OR | 49 CFR 172.101 Column (9B), 172.204 (c)(3), 173.27 (b)(2), 175.30 (a)(1), and 172.200 | To authorize the transportation in commerce of certain hazardous materials by external load on cargo aircraft in remote areas of the U.S. without being subject to hazard communication requirements and quantity limitations where no other means of transportation is available. (mode 4)
15479-N |  | Korean Air Lines Co. Ltd. (KAL) | 49 CFR 172.101 Column (9B) | To authorize the one-time transportation in commerce of certain explosives that are forbidden for transportation by cargo only aircraft. (mode 4)
15483-N |  | United Space Alliance Houston, TX | 49 CFR 173.302a | To authorize the transportation in commerce of certain Division 2.2 compressed gases in non-DOT specification cylinders to support the International Space Station Human Research Facility Gas Delivery System. (modes 1, 2, 3, 4, 5)
15491-N |  | Metalcraft/Sea-Fire Marine Inc. Baltimore, MD | 49 CFR 173.301(f) | To authorize the transportation in commerce of non-DOT specification cylinders containing a Division 2.2 compressed gas for export only. (modes 1, 2, 3, 4)
15493-N |  | Carleton Technologies dba Cobham Mission Systems Orchard Park, NY | 49 CFR 173.302a | To authorize the manufacture, marking, sale and use of a nonrefillable non-DOT specification cylinder similar to a DOT specification 39 cylinder for use in transporting Division 2.2 non-flammable compressed gas. (modes 1, 2, 4, 5)
15494-N |  | Johnson Controls Battery Group, Inc. Milwaukee, WI | 49 CFR 173.159 | To authorize the transportation in commerce of certain actively leaking lead acid batteries in a special overpack by motor vehicle. (mode 1)

[FR Doc. 2011-28984 Filed 11-14-11; 8:45 am]

BILLING CODE 4909-60-M